DEPARTMENT OF COMMERCE

International Trade Administration

[A-570-601]

Notification of Partial Rescission of Antidumping Duty Administrative Review of Tapered Roller Bearings and Parts Thereof, Finished or Unfinished, from the People's Republic of China

AGENCY: Import Administration, International Trade Administration, Department of Commerce.

EFFECTIVE DATE: February 4, 2005.

FOR FURTHER INFORMATION CONTACT: Salim Bhabhrawala or Eugene Degnan, AD/CVD Operations, Office 8, Import Administration, International Trade Administration, U.S. Department of Commerce, 14th Street and Constitution Avenue, NW, Washington, DC 20230; telephone (202) 482-1784 or (202) 482-0414, respectively.

SUPPLEMENTARY INFORMATION:

Background

On June 1, 2004, the Department of Commerce (“the Department”) published a notice of opportunity to request an administrative review of the antidumping duty order on tapered roller bearings and parts thereof, finished or unfinished (“TRBs”), from the People's Republic of China (“PRC”) for the period June 1, 2003, through May 31, 2004. See Antidumping or Countervailing Duty Order, Finding, or Suspended Investigation; Opportunity To Request Administrative Review, 69 FR 30873, (June 1, 2004). On June 30, 2004, The Timken Company (the Petitioner) requested that the Department conduct an administrative review of the antidumping duty order covering TRBs from the PRC for entries of subject merchandise produced and exported by China National Machinery Import & Export Corporation, Chin Jun Industrial Ltd., Luoyang Bearing Corporation (Group), Peer Bearing Company-Changshan (“CPZ”), Shanghai United Bearing Co., Ltd., Weihai Machinery Holding (Group) Company, Ltd., Zhejiang Changshan Bearing (Group) Co., Ltd., Zhejiang Changshan Change Bearing Co., and Zhejiang Machinery Import & Export Corp. Also on June 30, 2004, Yantai Timken Company Limited (“Yantai”) requested an administrative review of entries of subject merchadise produced by Yantai.

On July 28, 2004, the Department published in the Federal Register a notice of the initiation of the antidumping duty administrative reveiw of TRBs from the PRC for the period June 1, 2003, though May 31, 2004. See Initiation of Antidumping and Contervailing Duty Administrative Reviews and Request for Revocation in Part, 69 FR 45010 (July 28, 2004) (Initiation Notice). On August 5, 2004, the Department issued antidumping duty questionnaires to all of the above respondents.

On October 22, 2004, the Petitioner withdrew its request for an administrative review of sales and entries of subject merchandise produced and exported by CPZ.

Rescission of the Review

Pursuant to 19 CFR § 351.213(d)(1), the Department will rescind an administrative review, in whole or in part, if a party that requested a review withdraws the request within 90 days of the date of publication of the initiation notice of the requested review. Based on a timely request by the Petitioner, the only party that made a request for review with respect to CPZ, the Department is rescinding this review with respect to CPZ in accordance with 19 CFR 351.213(d)(1). The Department will continue its review of other exporters/producers as announced in the Intitiation Notice. See 69 FR 45010.

This notice serves as a reminder to parties subject to administrative protective order (APO) of their responsiblity concerning the disposition of proprietary information disclosed under APO in accordance with 19 CFR 351.305(a)(3). Timely written notificaiton of return or destruction of APO materials or conversion to judicial protective order is hereby requested. Failure to comply with the regulations and terms of APO is a sanctionable violation.

This determination is issued in accordance with 19 CFR 351.213(d)(4) and section 777(i)(l) of the Tariff Act of 1930, as amended.

Dated: January 28, 2005.
Barbara E. Tillman,
Acting Deputy Assistant Secretary for Import Administration.

[FR Doc. 05-2186 Filed 2-3-05; 8:45 am]

BILLING CODE 3510-DS-S